DEPARTMENT OF COMMERCE

International Trade Administration

[A-421-805]

Revocation of Antidumping Duty Order on Aramid Fiber Formed of Poly Para-Phenylene Terephthalamide From the Netherlands

AGENCY: Import Administration, International Trade Administration, Department of Commerce.

ACTION: Notice of revocation of antidumping duty order on aramid fiber formed of poly para-phenylene terephthalamide from the Netherlands

SUMMARY: Pursuant to section 751(c) of the Tariff Act of 1930, as amended (“the Act”), the United States International Trade Commission (“the Commission”) determined that revocation of the antidumping duty order on aramid fiber formed of poly para-phenylene terephthalamide (“Aramid Fiber”) from the Netherlands is not likely to lead to continuation or recurrence of material injury to an industry in the United States within a reasonably foreseeable time, 66 FR 12810 (February 28, 2001). Therefore, pursuant to section 751(d)(2) of the Act and 19 CFR 351.222(i)(1), the Department of Commerce (“the Department”) is revoking the antidumping duty order on aramid fiber from the Netherlands. Pursuant to section 751(c)(6)(A)(iv) of the Act and 19 CFR 351.222(i)(2)(ii) the effective date of revocation is January 1, 2000.

FOR FURTHER INFORMATION CONTACT: Martha V. Douthit or James P. Maeder, Office of Policy for Import Administration, International Trade Administration, U.S. Department of Commerce, 14th Street and Constitution Ave., NW, Washington, DC 20230; telephone: (202) 482-5050 or (202) 482-3330, respectively.

EFFECTIVE DATE: January 1, 2000.

Background

On December 1, 1999, the Department initiated (64 FR 67247), and the Commission instituted (64 FR 67302), a sunset review of the antidumping duty order on aramid fiber from the Netherlands, pursuant to section 751(c) of the Act. As a result of its review, the Department found that revocation of the antidumping duty order on aramid fiber from the Netherlands would likely lead to continuation or recurrence of dumping, and notified the Commission of the magnitude of the margin likely to prevail were the antidumping duty order revoked. See Final Results of Full Sunset Review: Aramid Fiber Formed of Poly Para-Phenylene Terephthalamide From the Netherlands, 65 FR 65294 (November 1, 2000).

On February 28, 2001, the Commission determined, pursuant to section 751(c) of the Act, that revocation of the antidumping duty order on aramid fiber from the Netherlands would not likely lead to continuation or recurrence of material injury to an industry in the United States within a reasonably foreseeable time. See Aramid Fiber Formed of Poly Para-Phenylene Terephthalamide From the Netherlands, 66 FR 12810 (February 28, 2001), and USITC Publication 3394, (February 2001), Investigation No. 731-TA-652 (Review).

Scope

The merchandise subject to this antidumping duty order includes all forms of aramid fiber from the Netherlands. These consist of aramid fiber in the form of filament yarn (including single and corded), staple fiber, pulp (wet or dry), spun-laced and spun-bonded nonwovens, chopped fiber, and floc. Tire cord is excluded from the class or kind of merchandise subject to this order. This merchandise is currently classifiable under the Harmonized Tariff Schedule of the United States (“HTSUS”) item numbers 5402.10.3020, 5402.10.3040, 5402.10.6000, 5503.10.1000, 5503.10.9000, 5601.30.0000, and 5603.00.9000. The HTSUS item numbers are provided for convenience and Customs purposes. The written description of the scope remains dispositive.

Determination

As a result of the determination by the Commission that revocation of this antidumping duty order is not likely to lead to continuation or recurrence of material injury to an industry in the United States, the Department, pursuant to section 751(d)(2) of the Act and 19 CFR 351.222(i)(1), is revoking the antidumping duty order on aramid fiber from the Netherlands. Pursuant to section 751(c)(6)(A)(iv) of the Act and 19 CFR 351.222(i)(2)(ii), this revocation is effective January 1, 2000. The Department will instruct the Customs Service to discontinue the suspension of liquidation and collection of cash deposit rates on entries of the subject merchandise entered or withdrawn from warehouse on or after January 1, 2000 (the effective date). The Department will complete any pending administrative reviews of this order and will conduct administrative reviews of subject merchandise entered prior to the effective date of revocation in response to appropriately filed requests for review.

Effective January 20, 2001, Bernard T. Carreau is fulfilling the duties of the Assistant Secretary for Import Administration.

Dated: March 7, 2001.
Bernard T. Carreau,
Deputy Assistant Secretary Import Administration.

[FR Doc. 01-6226 Filed 3-12-01; 8:45 am]

BILLING CODE 3510-DS-P